DEPARTMENT OF THE INTERIOR

Geological Survey

Call for Nominations to the National Geospatial Advisory Committee

AGENCY: U.S. Geological Survey, Interior.

ACTION: Call for Nominations.

SUMMARY: The Department of the Interior is seeking nominations to serve on the National Geospatial Advisory Committee (NGAC). The NGAC is a Federal Advisory Committee established under the authority of the Federal Advisory Committee Act (FACA). The Committee provides advice and recommendations to the Secretary of the Interior through the Federal Geographic Data Committee related to management of Federal geospatial programs, development of the National Spatial Data Infrastructure, and the implementation of Office of Management and Budget Circular A-16 and Executive Order 12906. The Committee reviews and comments upon geospatial policy and management issues and provides a forum for views of non-Federal stakeholders in the geospatial community.

DATES: Nominations to participate on this Committee must be received by August 12, 2013.

ADDRESSES: Send nominations electronically to ngacnominations@fgdc.gov, or by mail to John Mahoney, U.S. Geological Survey, U.S. Department of the Interior, 909 First Avenue, Suite 800, Seattle, WA 98104. Nominations may come from employers, associations, professional organizations, or other geospatial organizations. Nominations should include a resume providing an adequate description of the nominee's qualifications, including information that would enable the Department of the Interior to make an informed decision regarding meeting the membership requirements of the Committee and permit the Department of the Interior to contact a potential member. Nominees are strongly encouraged to include supporting letters from employers, associations, professional organizations, and/or other organizations that indicate the support by a meaningful constituency for the nominee.

FOR FURTHER INFORMATION CONTACT: John Mahoney, USGS (206-220-4621). Additional information about the NGAC and the nomination process is posted on the NGAC Web page at www.fgdc.gov/ngac.

SUPPLEMENTARY INFORMATION: The Committee conducts its operations in accordance with the provisions of FACA. It reports to the Secretary of the Interior through the Federal Geographic Data Committee (FGDC) and functions solely as an advisory body. The Committee provides recommendations and advice to the Department and the FGDC on policy and management issues related to the effective operation of Federal geospatial programs.

The NGAC includes up to 30 members, selected to generally achieve a balanced representation of the viewpoints of the various partners involved in national geospatial activities. NGAC members are appointed for staggered terms, and approximately one-half of the positions on the committee will be appointed during this round of appointments. Nominations will be reviewed by the FGDC and additional information may be requested from nominees. Final selection and appointment of committee members will be made by the Secretary of the Interior. Individuals who are currently federally registered lobbyists are ineligible to serve on all FACA and non-FACA boards, committees, or councils.

The Committee meets approximately 3-4 times per year. Committee members will serve without compensation, but travel and per diem costs will be provided by USGS. The USGS will also provide necessary support services to the Committee. Committee meetings are open to the public. Notice of committee meetings are published in the Federal Register at least 15 days before the date of the meeting. The public will have an opportunity to provide input at these meetings.

Dated: June 27, 2013.
Ivan DeLoatch,
Executive Director, Federal Geographic Data Committee.

[FR Doc. 2013-16261 Filed 7-5-13; 8:45 am]

BILLING CODE 4311-AM-P